DEPARTMENT OF ENERGY

Federal Energy Regulatory Commission

[Docket No. RP96-272-016]

Northern Natural Gas Company; Notice of Proposed Changes in FERC Gas Tariff

August 4, 2000.

Take notice that Northern Natural Gas Company (Northern) on July 31, 2000, tendered for filing to become part of Northern's FERC Gas Tariff, the following tariff sheets, proposed to become effective on August 1, 2000:

Fifth Revised Volume No. 1

Eighth Revised Sheet No. 66

Third Revised Sheet No. 66C

The above sheets are being filed to implement a specific negotiated rate transaction in accordance with the Commission's Policy Statement on Alternatives to Traditional Cost-of-Service Ratemaking for Natural Gas Pipelines.

Northern further states that copies of the filing have been mailed to each of its customers and interested State Commissions.

Any person desiring to protest this filing should file a protest with the Federal Energy Regulatory Commission, 888 First Street, NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may also be viewed on the web at http://www.ferc.fed.us/online/rims.htm (call 202-208-2222 for assistance).

David P. Boergers,
Secretary.

[FR Doc. 00-20198 Filed 8-9-00; 8:45 am]

BILLING CODE 6717-01-M